DEPARTMENT OF COMMERCE

National Oceanic and Atmospheric Administration

RIN 0648-XF443

Meeting of the Columbia Basin Partnership Task Force of the Marine Fisheries Advisory Committee

AGENCY: National Marine Fisheries Service (NMFS), National Oceanic and Atmospheric Administration (NOAA), Department of Commerce.

ACTION: Notice of open public meeting.

SUMMARY: This notice sets forth the proposed schedule and agenda of a forthcoming meeting of the Marine Fisheries Advisory Committee's (MAFAC's) Columbia Basin Partnership Task Force (CBP Task Force). The CBP Task Force will discuss the issues outlined in the SUPPLEMENTARY INFORMATION below.

DATES: The meeting will be held June 27, 2017, from 8 a.m. to 3 p.m. and on June 28, 2017, from 8 a.m. to 4 p.m.

ADDRESSES: The meeting will be held at the Wenatchee Convention Center at the Stanley Civic Center, 121 North Wenatchee Avenue, Wenatchee, WA 98801.

FOR FURTHER INFORMATION CONTACT: Katherine Cheney; NFMS West Coast Region (503) 231-6730; email: Katherine.Cheney@noaa.gov.

SUPPLEMENTARY INFORMATION: Notice is hereby given of a meeting of MAFAC's CBP Task Force. The MAFAC was established by the Secretary of Commerce (Secretary) and, since 1971, advises the Secretary on all living marine resource matters that are the responsibility of the Department of Commerce. The complete MAFAC charter and summaries of prior MAFAC meetings are located online at http://www.nmfs.noaa.gov/ocs/mafac/. The CBP Task Force reports to MAFAC and is being convened to discuss and develop recommendations for long-term goals to meet Columbia Basin salmon recovery, conservation needs, and harvest opportunities. These goals will be developed in the context of habitat capacity and other factors that affect salmon mortality. More information is available at the CBP Task Force Web page: http://www.westcoast.fisheries.noaa.gov/columbia_river/index.html.

Matters To Be Considered

The meeting time and agenda are subject to change. Updated information will be available on the CBP Task Force Web page above.

The meeting is convened to conduct the work of the CBP Task Force. Meeting topics include developing principles for quantitative goal setting, progress on applying the analytical framework to example species, and updates to the work plan. The meeting is open to the public as observers, and a public comment period will be provided on June 28, 2017, from 11:30 a.m.-12 p.m. to accept public input, limited to the time available.

Special Accommodations

The meeting is physically accessible to people with disabilities. Requests for sign language interpretation or other auxiliary aids should be directed to Katherine Cheney; 503-231-6730, by June 12, 2017.

Dated: May 19, 2017
Jennifer Lukens,
Director for the Office of Policy, National Marine Fisheries Service.

[FR Doc. 2017-10732 Filed 5-24-17; 8:45 am]

BILLING CODE 3510-22-P